DEPARTMENT OF HEALTH AND HUMAN SERVICES

National Institutes of Health

National Cancer Institute; Amended Notice of Meeting

Notice is hereby given of a change in the meeting of the National Cancer Institute Board of Scientific Advisors, March 29, 2016, 08:30 a.m. to March 30, 2016, 12:00 p.m., National Institutes of Health, 31 Center Drive, Building 31, Conference Room 10, Bethesda, MD, 20892 which was published in the Federal Register on February 26, 2016, 81 FR 9867.

The meeting notice is amended to change the meeting date to March 29, 2016. The meeting is open to the public.

Dated: March 2, 2016.
David Clary,
Program Analyst, Office of Federal Advisory Committee Policy.

[FR Doc. 2016-05018 Filed 3-7-16; 8:45 am]

BILLING CODE 4140-01-P